DEPARTMENT OF COMMERCE

National Oceanic and Atmospheric Administration

[I.D. 010605C]

Endangered and Threatened Species; Take of Anadromous Fish

AGENCY: National Marine Fisheries Service (NOAA Fisheries), National Oceanic and Atmospheric Administration (NOAA), Commerce.

ACTION: Notice of availability and request for comments.

SUMMARY: Notice is hereby given of the availability of a Routine Road Maintenance Program (RMP) that Washington County, Oregon has submitted pursuant to the Endangered Species Act (ESA). NOAA Fisheries promulgated a protective rule for 14 threatened salmon and steelhead Evolutionarily Significant Units (ESUs). The RMP would affect six ESUs of threatened salmonids identified in the SUPPLEMENTARY INFORMATION section of this document. The ESA 4(d) rule provides for limits on ESA take prohibitions for the various activities set out in the rule. The RMP addresses the limit for routine road maintenance activities of any state, city, county or port. This notice serves to notify the public of the availability of the Washington County RMP for review and comment before a final approval or disapproval is made by NOAA Fisheries.

DATES: Written comments on the draft RMP must be received at the appropriate address or fax number (see ADDRESSES) no later than 5 p.m. Pacific Standard Time on February 14, 2005.

ADDRESSES: Written comments should be sent to Dr. Nancy Munn, Habitat Conservation Division, National Marine Fisheries Service, 525 NE Oregon Street, Suite 500, Portland, OR 97232.

Comments may also be faxed to 503-231-6893. Copies of the entire RMP are available on the Internet at: http://www.co.washington.or.us/limit10, or from the address posted on that site. Comments will not be accepted if submitted via email or the Internet.

FOR FURTHER INFORMATION CONTACT: Dr. Nancy Munn at phone number: 503-231-6269, or e-mail: nancy.munn@noaa.gov.

SUPPLEMENTARY INFORMATION: This notice is relevant to the following six salmon ESUs:

Chinook salmon (Oncorhynchus tshawytscha); threatened Upper Willamette River (UWR), and Lower Columbia River (LCR).

Steelhead (Oncorhynchus mykiss); threatened Upper Willamette River (UWR), and Lower Columbia River (LCR).

Coho salmon (Oncorhynchus kisutch); proposed as threatened Oregon Coast (OC).

Chum salmon (Oncorhynchus keta); threatened Columbia River (CR).

Background

Washington County, Department of Land Use and Transportation, Operations and Maintenance Division, submitted the RMP for routine road maintenance activities that might affect certain salmonid ESUs listed or proposed as threatened within the boundaries of Washington County. The RMP was designed so that routine road maintenance activities would be protective of salmonids and their habitat.

As specified in the July 10, 2000, ESA 4(d) rule for salmon and steelhead (65 FR 42422) under limit 10(i), take prohibitions to threatened species of salmonids do not apply to routine road maintenance activities of a state, county, city or port that complies with a program that is substantially similar to that contained in the Oregon Department of Transportation (ODOT) Routine Road Maintenance Water Quality and Habitat Guide Best Management Practices (Guide, July 1999), and that is determined to meet or exceed the protections provided in the ODOT Guide. NOAA Fisheries may approve a routine road maintenance program of any state, city, county or port that contains management practices that are equivalent to or better than those in the ODOT Guide. Prior to final approval of a routine road maintenance program, NOAA Fisheries must publish notification in the Federal Register announcing the program's availability for public review and comment.

The Washington County RMP submittal includes a cover letter addressed to D. Robert Lohn, Regional Administrator of NOAA Fisheries, and a statement of commitment from Washington County to implement the RMP. In Part 1, the RMP provides the responsible entity and legal authority for the program and provides a description of the program, including a description of Washington County's Riparian Management Areas and their gravel road maintenance and dust abatement program. In Part 2, the RMP provides a description of the geographic area to which the program applies, including an analysis of the environmental baseline of the watersheds of the lower Columbia River and the lower Willamette River, and Oregon coast tributaries that are within the City of Portland. Part 2 also includes maps (most found in Attachment 3) and tables that describe various habitat parameters such as culverts that block fish passage, riparian condition, and water quality condition. In Part 3 , the RMP describes the listed species distribution and status, referring to distribution maps for steelhead and chinook found in Attachment 4. A list of relevant reports is provided in Part 4. In Part 5, the RMP summarizes the training, monitoring, and reporting elements of the RMP. In Part 6, the RMP makes an affirmative conclusion that the program is substantially similar to or better than ODOT's program, referring to a table in Attachment 1 that compares the two programs.

The RMP defines what activities are routine road maintenance. These consist of maintenance activities that are conducted on currently serviceable structures, facilities, and equipment, involve no expansion of or change in use, and do not result in significant negative hydrological impact. Washington County's best management practices (Attachment 2) includes some activities that differ from ODOT's. These include best management practices for surface work, ditch shaping and cleaning, and sweeping/flushing. The RMP provides information in Attachment 1 to support the assertion that Washington County's practices for these activities are as effective or more effective than ODOT's practices at protecting fish and their habitat. Approval or disapproval of the RMP will depend on NOAA Fisheries' findings after public review and comment.

Authority

Under section 4 of the ESA, the Secretary of Commerce is required to adopt such regulations as he deems necessary and advisable for the conservation of species listed as threatened. The ESA salmon and steelhead 4(d) rule (65 FR 424222, July 10, 2000) identifies specific categories of activities that contribute to the conservation of listed salmonids and sets out the criteria for such activities. The rule further provides that the prohibitions of paragraph (a) of the rule do not apply to activities associated with routine road maintenance provided that a state or local program has been approved by NOAA Fisheries to be in accordance with the salmon and steelhead 4(d) rule (65 FR 424222, July 10, 2000).

Dated: January 7, 2005.
Phil Williams,
Chief, Endangered Species Division, Office of Protected Resources, National Marine Fisheries Service.

[FR Doc. 05-756 Filed 1-12-05; 8:45 am]

BILLING CODE 3510-22-S